DEPARTMENT OF THE INTERIOR

Fish and Wildlife Service

[FWS-R8-ES-2014-N028; FXES11130800000-134-FF08E00000]

Endangered and Threatened Species; Permits Issued

AGENCY: Fish and Wildlife Service, Interior.

ACTION: Notice of issuance of permits.

DATES: The permit issuance dates are under SUPPLEMENTARY INFORMATION.

SUMMARY: We, the U.S. Fish and Wildlife Service, have issued the following permits to conduct certain activities with endangered species under the authority of the Endangered Species Act, as amended (Act). With some exceptions, the Act prohibits activities with listed species unless a Federal permit is issued that allows such activity.

FOR FURTHER INFORMATION CONTACT: Mr. Daniel Marquez, U.S. Fish and Wildlife Service, Region 8, 2800 Cottage Way, Room W-2606, Sacramento, CA 95825; 760-431-9440 (telephone); or daniel_marquez@fws.gov (email).

SUPPLEMENTARY INFORMATION: We have issued the following permits in response to recovery permit applications we received under the authority of section 10 of the Act, as amended (16 U.S.C. 1531 et seq.). We provide this notice under section 10(d) of the Act. Each permit listed below was issued only after we determined that it was applied for in good faith, that granting the permit would not be to the disadvantage of the listed species, and that the terms and conditions of the permit were consistent with purposes and policy set forth in the Act.

Applicant name | Permit No. | Date issued | Expiration date
WALLACE, BENJAMIN SCOTT | 99477A | 9/27/13 | 9/26/17
NAVAL FACILITIES ENGINEERING COMMAND, SOUTHWEST | 034101 | 12/20/13 | 3/14/14
VANDENBERG AIR FORCE BASE | 174305 | 12/20/13 | 5/24/16
KARPMAN, BRIAN E | 01768B | 8/23/13 | 8/22/16
STOUT, JULIE ANN | 157199 | 8/30/13 | 8/29/16
CALIFORNIA STATE PARKS | 31406A | 11/1/13 | 10/31/16
WILDWING | 823990 | 11/1/13 | 10/31/16
CALIFORNIA DEPARTMENT OF PARKS AND RECREATION | 814222 | 11/8/13 | 11/7/16
TENNANT, STACIE A. | 834489 | 12/20/13 | 12/19/16
NORTH STATE RESOURCES, INC. | 798003 | 7/12/13 | 7/11/17
RAMIREZ, RUBEN S. | 780566 | 8/30/13 | 8/29/17
THOMPSON, CAROL A. | 207873 | 8/30/13 | 8/29/17
KONECNY, JOHN K. | 837308 | 11/15/13 | 11/14/17
MYERS, STEPHEN J. | 804203 | 11/22/13 | 11/21/17
ALLEN, LISA D. | 050450 | 11/29/13 | 11/28/17
GOLD, JENNIFER D | 05661B | 12/13/13 | 12/12/17
CLARK, KEVIN B. | 117947 | 12/20/13 | 12/19/17
HILL, ALICIA TERESA ORNELAS | 06145B | 12/20/13 | 12/19/17
CALIFORNIA LIVING MUSEUM | 13703B | 1/29/14 | 1/28/18
RILEY, KATHRYN L. | 97709A | 8/30/13 | 8/29/16
SAN FRANCISCO ESTUARY INSTITUTE | 043630 | 11/8/13 | 11/7/16
OLOFSON ENVIRONMENTAL, INC. | 118356 | 11/15/13 | 11/14/16
ALLING, GARTH P | 05613B | 12/13/13 | 12/12/16
SAN BERNARDINO COUNTY, DEPT OF PUBLIC WORKS | 083348 | 11/1/13 | 10/31/17
KELSO, MEGAN A | 06164B | 12/20/13 | 12/19/17
ROMICH, KIMBERLY S | 06131B | 12/20/13 | 12/19/17
HORD, PATRICK L | 98905A | 7/26/13 | 7/25/16
AGUAYO, JONATHAN | 96514A | 8/23/13 | 8/22/16
CADDY, TRACI A | 211097 | 8/23/13 | 8/22/16
CAMPBELL TIMBERLAND MANAGEMENT, LLC. | 022765 | 9/27/13 | 9/26/16
LINCER, JEFFREY L. | 837301 | 11/8/13 | 11/7/16
MOORE, KARLY J | 02484A | 11/8/13 | 11/7/16
O'BRIEN, GRETCHEN A. | 128389 | 11/8/13 | 11/7/16
DR. RICHARD T. GOLIGHTLY | 040193 | 12/19/13 | 12/19/16
FLISIK, TYLER J | 15265B | 1/31/14 | 1/30/17
SCHOENWETTER, TARA | 76005A | 12/20/13 | 3/7/17
ZITT, BRIAN ALLEN | 27460A | 12/20/13 | 3/9/15
CHANNEL ISLANDS NATIONAL PARK, NATIONAL PARK SERVICE | 086267 | 11/22/13 | 11/21/15
JOHNSON, PIETER TJ | 181714 | 11/1/13 | 3/29/16
ECORP CONSULTING, INC. | 012973 | 8/23/13 | 8/2/16
WILCOX, JEFFERY T. | 068745 | 8/30/13 | 9/20/16
HOLMES, MASON D.N. | 96471A | 7/12/13 | 7/11/17
MULDER, JOEL J. | 93072A | 7/12/13 | 7/11/17
SHAW, DANIEL W.H. | 190303 | 7/12/13 | 7/11/17
SIERRA VIEW LANDSCAPE, INC. | 195306 | 7/12/13 | 7/11/17
TISCHER, CHRISTINE | 053379 | 7/12/13 | 7/11/17
WINKLEMAN, RYAN S | 88331A | 7/12/13 | 7/11/17
ROBERTSON, THEODORE D | 94977A | 7/26/13 | 7/25/17
SIEMENS, MITCH C. | 190302 | 7/26/13 | 7/25/17
CURIODYSSEY CORPORATION | 185611 | 8/30/13 | 8/19/17
AGUILAR, ANDRES | 195305 | 8/23/13 | 8/22/17
CALIFORNIA NATIVE PLANT SOCIETY | 021929 | 8/23/13 | 8/22/17
JOSHI, VIPUL RAMESH | 019949 | 8/23/13 | 8/22/17
JUHASZ, THOMAS | 208907 | 8/23/13 | 8/22/17
SWEET, SAMUEL SPENDER | 025732 | 8/23/13 | 8/22/17
TOWNSEND, SUSAN E | 94965A | 8/23/13 | 8/22/17
SIMOVICH, MARIE A. | 787037 | 8/26/13 | 8/25/17
SCATOLINI, SUSAN R. | 074955 | 8/30/13 | 8/29/17
BLAND, DANA C | 798017 | 9/27/13 | 9/26/17
MILLER, GREGG BRIAN | 834488 | 9/27/13 | 9/26/17
KEMPTON, ELIZABETH A | 96483A | 10/4/13 | 10/3/17
FOSTER, SARAH M. | 200339 | 11/1/13 | 10/31/17
HATCH, ANDREW R. | 200340 | 11/1/13 | 10/31/17
LABONTE, JOHN PAUL | 203081 | 11/1/13 | 10/31/17
MUTH, DAVID P. | 839213 | 11/1/13 | 10/31/17
CAMERON, SCOTT D. | 808242 | 11/8/13 | 11/7/17
DAVIS, CHERYL LYNNE | 02785B | 11/29/13 | 11/28/17
DEWAR, SUSAN BETH | 02737B | 11/29/13 | 11/28/17
KISNER, JOHANNA M. | 204436 | 11/29/13 | 11/28/17
RICHARDS, PHILLIP CHARLES | 095896 | 11/29/13 | 11/28/17
SCHELL, ROBERT ANTHONY | 212445 | 11/29/13 | 11/28/17
GOBLE, MOLLY E. | 091012 | 12/13/13 | 12/12/17
HERON PACIFIC, LLC | 11271B | 12/13/13 | 12/12/17
BAYNE, KELLY E | 185595 | 12/20/13 | 12/18/17
GLASS, KENNETH A | 211099 | 12/20/13 | 12/19/17
SWAIM, KAREN E. | 815537 | 1/16/14 | 1/15/18
BETTELHEIM, MATTHEW P. | 094845 | 1/31/14 | 1/30/18
PRATT, GORDON F | 004939 | 11/22/13 | 1/2/15
STECKLER, SONYA E. | 61783A | 7/12/13 | 5/24/15
BEAN, WILLIAM T | 37418A | 11/15/13 | 6/20/15
LEMM, JEFFREY M | 38475A | 11/22/13 | 7/26/15
PERNICANO, MARTINA | 72047A | 1/24/14 | 10/4/15
UNIVERSITY OF ARIZONA | 086593 | 12/13/13 | 1/24/17
COLE, ESTHER M. | 93066A | 7/12/13 | 7/11/17
MARSCHALEK, DANIEL A | 040553 | 7/12/13 | 7/11/17
FLIETNER, DAVID W | 008031 | 7/26/13 | 7/25/17
MENDOZA, ANGELICA | 221295 | 8/23/13 | 8/22/17
ARSENIJEVIC, JELICA | 197602 | 11/1/13 | 10/31/17
SWCA ENVIRONMENTAL CONSULTANTS | 824123 | 11/1/13 | 10/31/17
MORRO COAST AUDUBON SOCIETY | 213314 | 11/29/13 | 11/28/17
POWERS, MICHAEL S | 036120 | 11/29/13 | 11/28/17
SARAFIAN, PETER G. | 101462 | 11/29/13 | 11/28/17
CAIN, IAN C | 06197B | 12/20/13 | 12/19/17
RENFRO, ERIC STEVEN | 142436 | 12/20/13 | 12/19/17
SCHAFHAUSER, ELLEN K | 084254 | 12/20/13 | 12/19/17
DRAKE, MICHAEL B | 006328 | 1/24/14 | 1/23/18
NATURAL RESOURCES ASSESSMENT, INC. | 831207 | 1/24/14 | 1/23/18
MESSIN, JOSEPH E. | 022649 | 1/31/14 | 1/30/18
SAN FRANCISCO BAY NATIONAL WILDLIFE REFUGE COMPLEX | 053372 | 11/22/13 | 12/31/14
CARLSBAD FISH AND WILDLIFE OFFICE | 034097 | 8/7/13 | 12/31/14
ZOOLOGICAL SOCIETY OF SAN DIEGO | 08592A | 11/1/13 | 7/20/14
US GEOLOGICAL SURVEY | 030659 | 9/27/13 | 10/6/15
STAUFFER, JESSICA R. | 94979A | 7/25/13 | 7/25/16
FRANKLIN, ALAN B | 99374A | 7/26/13 | 7/25/16
RIPMA, LEE | 221290 | 10/4/13 | 4/11/17
SCHAAP, MATTHEW ALAN | 203074 | 7/26/13 | 7/25/17
SUMMIT LAKE PAIUTE TRIBE | 17827A | 7/26/13 | 7/25/17
BRINKERHOFF, AARON | 96526A | 8/23/13 | 8/22/17
NAGY, KENNETH A. | 085050 | 11/1/13 | 10/31/17
STITT, ERIC W. | 022225 | 11/1/13 | 10/31/17
ACHTER, LISA R | 05665B | 12/13/13 | 12/12/17
DELANEY, KATHLEEN SEMPLE | 02869B | 12/13/13 | 12/12/17
OLSON, THOMAS E. | 039460 | 12/13/13 | 12/12/17
KOENIG, LESLIE L | 210233 | 12/20/13 | 12/19/17
FREMONT—WINEMA NATIONAL FOREST, U.S. FOREST SERVICE | 001618 | 12/20/13 | 12/19/17
HINDERLE, DANNA | 218901 | 1/29/14 | 1/28/18

Availability of Documents

Documents and other information submitted with these applications are available for review, subject to the requirements of the Privacy Act and Freedom of Information Act, by any party who submits a written request for a copy of such documents to Daniel Marquez (see FOR FURTHER INFORMATION CONTACT).

Authority: The authority for this notice is the Endangered Species Act of 1973, as amended (16 U.S.C. 1531 et seq.).

Michael Long,
Acting Regional Director, Pacific Southwest Region, Sacramento, California.

[FR Doc. 2014-04696 Filed 3-3-14; 8:45 am]

BILLING CODE 4310-55-P